DEPARTMENT OF COMMERCE

Bureau of Industry and Security

Deemed Export Advisory Committee; Notice of Partially Closed Meeting

The Deemed Export Advisory Committee (DEAC) will meet in an open session on Tuesday, June 19, 2007 from 9:30 a.m.-12:30 p.m. at the Massachusetts Institute of Technology, 77 Massachusetts Avenue, (Maclaurin Buildings) Building 10-250; Cambridge, MA 02139-4307. A map of the campus can be found at the following Web site: http://www.web.mit.edu/facilities/maps/index.html. Parking information can be found at the following Web site: http://www.web.mit.edu/facilities/transportation/index.html.

The DEAC is a Federal advisory Committee established in accordance with the requirements of the Federal Advisory Committee Act, as amended, 5 U.S.C. app. 2. It advised the Secretary of Commerce on deemed export licensing policy. A tentative agenda of topics for discussion is listed below. While these topics will likely be discussed, this list is not exhaustive and there may be discussion of other related items during the public session.

June 19, 2007

Public Session

1. Introductory Remarks.

2. Current Deemed Export Control Policy Issues.

3. Technology Transfer Issues.

4. U.S. Industry Competitiveness.

5. U.S. Academic and Government Research Communities.

6. Industry, Academia and other Stakeholder Comments.

Parking will be available on-site for members of the public at a cost of $20 per vehicle. In addition, a limited number of seats will be available for the public session. Reservations will not be accepted. To the extent time permits, members of the general public may present oral statements to the DEAC. The general public may submit written statements at any time before or after the meeting. However, to facilitate distribution to DEAC members, BIS suggests that general public presentation materials or comments be forwarded before the meeting to Ms. Yvette Springer at Yspringer@bis.doc.gov.

June 29, 2007

Closed Session

The DEAC will also meet in a closed session on Tuesday, June 19, 2007, from 8 a.m.-9:30 a.m. and 2 p.m.-6 p.m. During the closed session, there will be discussion of matters determined to be exempt from the provisions relating to public meetings found in 5 U.S.C. app. 2 sections 10(a)(1) and 10(a)(3). The Assistant Secretary for Administration formally determined on May 31, 2007, pursuant to Section 10(d) of the Federal Advisory Committee Act, as amended (5 U.S.C. app. 2 section (10)(d)). that the portion of the meeting concerning trade secrets and commercial or financial information deemed privileged or confidential as described in 5 U.S.C. 552b(c)(4), the portion of the meeting concerning matters the premature disclosure of which would be likely to significantly frustrate implementation of an agency action as described in 5 U.S.C. 552b(c)(9)(B), and the portion of the meeting dealing with matters that are (A) Specifically authorized under criteria established by an Executive Order to be kept secret in the interests of national defense or foreign policy and (B) in fact properly classified pursuant to such Executive Order (5 U.S.C. 552b(c)(1)(A) and (1)(B)), shall be exempt from the provisions relating to public meetings found in 5 U.S.C. app. 2 sections 10(a)(1) and 10(a)(3). All other portions of the DEAC meeting will be open to the public.

For more information, please call Yvette Springer at (202) 482-2813.

Dated: May 31, 2007.
Yvette Springer,
Committee Liaison Officer.

[FR Doc. 07-2786 Filed 6-4-07; 8:45 am]

BILLING CODE 3510-JT-M